DEPARTMENT OF TRANSPORTATION

Federal Aviation Administration

14 CFR Part 39

[Docket No. FAA-2020-0209; Product Identifier 2020-NM-004-AD]

RIN 2120-AA64

Airworthiness Directives; Kidde Aerospace & Defense

AGENCY: Federal Aviation Administration (FAA), DOT.

ACTION: Notice of proposed rulemaking (NPRM).

SUMMARY: The FAA proposes to adopt a new airworthiness directive (AD) for Kidde Aerospace & Defense cargo fire extinguisher halon bottles installed on various transport category airplanes. This proposed AD was prompted by a report indicating that certain cargo fire extinguisher halon bottles installed in the cargo compartment had low charge pressure. This proposed AD would require an inspection to determine the part number and serial number of the cargo fire extinguisher halon bottles and replacement of affected parts with serviceable parts. The FAA is proposing this AD to address the unsafe condition on these products.

DATES: The FAA must receive comments on this proposed AD by May 14, 2020.

ADDRESSES: You may send comments, using the procedures found in 14 CFR 11.43 and 11.45, by any of the following methods:

•Federal eRulemaking Portal: Go to https://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For Boeing service information identified in this NPRM, contact Boeing Commercial Airplanes, Attention: Contractual & Data Services (C&DS), 2600 Westminster Blvd., MC 110-SK57, Seal Beach, CA 90740-5600; telephone 562-797-1717; internet https://www.myboeingfleet.com. For Kidde Aerospace & Defense service information identified in this NPRM contact Kidde Aerospace & Defense, 4200 Airport Drive NW, Building B, Wilson, NC 27896-8630; telephone 319-295-5000; http://www.Kiddetechnologies.com/aviation. You may view this service information at the FAA, Transport Standards Branch, 2200 South 216th St., Des Moines, WA. For information on the availability of this material at the FAA, call 206-231-3195.

Examining the AD Docket

You may examine the AD docket on the internet at https://www.regulations.gov by searching for and locating Docket No. FAA-2020-0209; or in person at Docket Operations between 9 a.m. and 5 p.m., Monday through Friday, except Federal holidays. The AD docket contains this NPRM, the regulatory evaluation, any comments received, and other information. The street address for Docket Operations is listed above. Comments will be available in the AD docket shortly after receipt.

FOR FURTHER INFORMATION CONTACT: Samuel Belete, Aerospace Engineer, Systems and Equipment Section, FAA, Atlanta ACO Branch, 1701 Columbia Avenue, College Park, GA 30337; phone: 404-474-5580; fax: 404-474-5606; email: Samuel.Belete@faa.gov.

SUPPLEMENTARY INFORMATION:

Comments Invited

The FAA invites you to send any written relevant data, views, or arguments about this proposal. Send your comments to an address listed under the ADDRESSES section. Include “Docket No. FAA-2020-0209; Product Identifier 2020-NM-004-AD” at the beginning of your comments. The FAA specifically invites comments on the overall regulatory, economic, environmental, and energy aspects of this NPRM. The FAA will consider all comments received by the closing date and may amend this NPRM because of those comments.

The FAA will post all comments received, without change, to https://www.regulations.gov, including any personal information you provide. The FAA will also post a report summarizing each substantive verbal contact received about this NPRM.

Discussion

The FAA has received a report indicating that certain cargo fire extinguisher halon bottles installed in the cargo compartment had low charge pressure. An investigation revealed that a procedural change at the manufacturer of the cargo fire extinguisher halon bottles resulted in cargo fire extinguisher halon bottles being produced with lower than required pressure. Indication of the low bottle pressure may not occur until the bottles have been agitated from in-service use and a warning is displayed in the flight deck. Low charge pressure of a cargo fire extinguisher halon bottle installed in the cargo compartment, if not addressed, could result in insufficient halon concentrations to extinguish a fire in the cargo compartment.

Related Service Information Under 1 CFR Part 51

The FAA reviewed the following Boeing Alert Requirements Bulletins. This service information describes procedures for an inspection to determine the serial number of the cargo fire extinguisher halon bottle having a certain part number and replacing affected parts with serviceable parts. These documents are distinct since they apply to different airplane models.

• Alert Requirements Bulletin 737-26A1150 RB, dated September 27, 2019.

• Alert Requirements Bulletin 737-26A1151 RB, dated September 27, 2019.

The FAA reviewed the following Kidde Aerospace & Defense service information. This service information describes, among other actions, procedures for replacing affected fire extinguishers (referred to as “cargo fire extinguisher halon bottles” in this proposed AD) with serviceable parts. These documents are distinct since they apply to different airplane models.

• Service Bulletin 473919-26-521, Rev 02, dated November 7, 2019.

• Service Bulletin 473957-26-518, Rev 02, dated November 4, 2019.

This service information is reasonably available because the interested parties have access to it through their normal course of business or by the means identified in the ADDRESSES section.

FAA's Determination

We are proposing this AD because we evaluated all the relevant information and determined the unsafe condition described previously is likely to exist or develop in other products of the same type design.

Proposed AD Requirements

This proposed AD would require accomplishing the actions specified in the service information described previously, except as discussed under “Differences Between this Proposed AD and the Service Information.” For information on the procedures, see this service information at https://www.regulations.gov by searching for and locating Docket No. FAA-2020-0209.

Differences Between This Proposed AD and the Service Information

The Kidde Aerospace & Defense service information specifies a compliance time of 12 months to accomplish the replacement. The Boeing service information specifies a compliance time of 24 months to accomplish the replacement. In developing an appropriate compliance time for this action, we considered the urgency associated with the subject unsafe condition, the availability of required parts, and the practical aspect of accomplishing the required replacement within a period of time that corresponds to the normal scheduled maintenance for most affected operators. In light of these items, we have determined that a 24-month compliance time is appropriate.

Costs of Compliance

We estimate that this proposed AD affects 3,308 appliances installed on, but not limited to, the transport category airplanes identified in paragraphs (c)(2)(i) through (vii) of this AD. We estimate the following costs to comply with this proposed AD:

Estimated Costs
Action | Labor cost | Parts cost | Cost per product | Cost on U.S. operators
Inspection | 2 work-hour × $85 per hour = $170 | $0 | $170 | $562,360

We estimate the following costs to do any necessary replacements that would be required based on the results of the proposed inspection. We have no way of determining the number of aircraft that might need replacements:

On-Condition Costs
Action | Labor cost | Parts cost | Cost per product
Replacement | 4 work-hours × $85 per hour = $340 | $25,305 | $25,645

According to the cargo fire extinguisher halon bottles manufacturer, some or all of the costs of this proposed AD may be covered under warranty, thereby reducing the cost impact on affected individuals. We do not control warranty coverage for affected individuals. As a result, we have included all known costs in our cost estimate.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Transport Category Airplanes: Docket No. FAA-2020-0209; Product Identifier 2020-NM-004-AD.

(a) Comments Due Date

We must receive comments by May 14, 2020.

(b) Affected ADs

None.

(c) Applicability

(1) This AD applies to the Kidde Aerospace & Defense cargo fire extinguisher halon bottles having part numbers and serial numbers identified in Table 1 of the service information identified in paragraphs (c)(1)(i) and (ii) of this AD.

(i) Kidde Aerospace & Defense Service Bulletin 473957-26-518, Rev 02, dated November 4, 2019

(ii) Kidde Aerospace & Defense Service Bulletin 473919-26-521, Rev 02, dated November 7, 2019.

(2) These affected cargo fire extinguisher halon bottles are installed on various transport category airplanes including, but not limited to, the airplanes identified in paragraphs (c)(2)(i) through (vii) of this AD, certificated in any category.

(i) Airbus Canada Limited Partnership (type certificate previously held by C Series Aircraft Limited Partnership (CSALP); Bombardier, Inc.) Model BD-500-1A10 and BD-500-1A11 airplanes.

(ii) Airbus SAS Model A330-200 and A330-300 series airplanes.

(iii) The Boeing Company Model DC-9-81 (MD-81) airplanes, and Model 737 series airplanes.

(iv) Bombardier, Inc., Model CL-600-2B19 (Regional Jet Series 100 & 440) airplanes, Model CL-600-2C10 (Regional Jet Series 700, 701 & 702) airplanes, and Model CL-600-2C11 (Regional Jet Series 550) airplanes.

(v) De Havilland Aircraft of Canada Limited (type certificate previously held by Bombardier, Inc.) Model DHC-8-400 series airplanes.

(vi) Embraer S.A. Model ERJ 170-100 STD airplanes, and Model ERJ 190-100 STD, -300, and -400 airplanes.

(vii) Saab AB, Saab Aeronautics (formerly known as Saab AB, Saab Aeronautics) Model SAAB 2000 airplanes.

(d) Subject

Air Transport Association (ATA) of America Code 26, Fire protection.

(e) Unsafe Condition

This AD was prompted by a report indicating that certain cargo fire extinguisher halon bottles had low charge pressure. Low charge pressure of a cargo fire extinguisher halon bottle installed in the cargo compartment, if not addressed, could result in insufficient halon concentrations to extinguish a fire in the cargo compartment.

(f) Compliance

Comply with this AD within the compliance times specified, unless already done.

(g) Definitions

For this AD, the definitions specified in paragraphs (g)(1) through (3) of this AD apply.

(1) Group 1: Boeing Model 737-8 and 737-9 airplanes, and Model 737-700, 737-800, and 737-900ER series airplanes.

(2) Group 2: Transport category airplanes other than those identified as group 1.

(3) Affected part: A cargo fire extinguisher halon bottle, manufactured by Kidde Aerospace & Defense, having a part number and serial number that is identified in the service information identified in paragraphs (c)(1)(i) and (ii) of this AD.

Note 1 to paragraph (g)(3): The terms “cargo fire extinguisher halon bottles” and “fire extinguishers” are used interchangeably in this AD and the service information identified in paragraphs (c)(1)(i) and (ii) of this AD and in paragraphs (i)(1)(i) and (ii) of this AD.

(h) Inspection

Within 24 months after the effective date of this AD, do an inspection to determine the part number and serial number of the cargo fire extinguisher halon bottles installed in the cargo compartment. A review of maintenance records can be done in lieu of the inspection provided the part number and serial number of the cargo fire extinguisher halon bottles can be conclusively determined from that review.

(i) Replacement

If, during the inspection or records review required by paragraph (h) of this AD, it is determined that an affected part, as identified in paragraph (g)(3) of this AD, is installed, before further flight, replace the part with a serviceable part in accordance with the applicable service information identified in paragraph (i)(1) and (i)(2) of this AD.

(1) For group 1 airplanes as identified in paragraph (g)(1) of this AD: The Accomplishment Instructions of the service information identified in paragraph (c)(1)(i) of this AD, or the service information identified in paragraph (i)(1)(i) or (ii) of this AD, as applicable.

(i) Boeing Alert Requirements Bulletin 737-26A1150 RB, dated September 27, 2019.

(ii) Boeing Alert Requirements Bulletin 737-26A1151 RB, dated September 27, 2019.

(2) For group 2 airplanes as identified in paragraph (g)(2) of this AD: The Accomplishment Instructions of the service information identified in paragraph (c)(1)(i) or (ii) of this AD, as applicable.

(j) Parts Installation Limitation

As of the effective date of this AD, no person may install on any airplane an affected part as identified in paragraph (g)(3) of this AD unless that part has a circled letter “G” stamped at a distance of approximately one inch from the left edge of the placard, indicating that the cargo fire extinguisher halon bottle has been tested and refilled.

(k) Special Flight Permit

If low pressure is detected or a warning is displayed in the flight deck, special flight permits may be issued in accordance with 14 CFR 21.197 and 21.199 to operate the airplane to a location where the cargo fire extinguisher halon bottles can be replaced or modified.

(l) Alternative Methods of Compliance (AMOCs)

(1) The Manager, Atlanta ACO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (m)(1) of this AD.

(2) Before using any approved AMOC, notify your appropriate principal inspector, or lacking a principal inspector, the manager of the local flight standards district office/certificate holding district office.

(3) For service information that contains steps that are labeled as Required for Compliance (RC), the provisions of paragraphs (l)(3)(i) and (ii) of this AD apply.

(i) The steps labeled as RC, including substeps under an RC step and any figures identified in an RC step, must be done to comply with the AD. If a step or substep is labeled “RC Exempt,” then the RC requirement is removed from that step or substep. An AMOC is required for any deviations to RC steps, including substeps and identified figures.

(ii) Steps not labeled as RC may be deviated from using accepted methods in accordance with the operator's maintenance or inspection program without obtaining approval of an AMOC, provided the RC steps, including substeps and identified figures, can still be done as specified, and the airplane can be put back in an airworthy condition.

(m) Related Information

(1) For more information about this AD, contact Samuel Belete, Aerospace Engineer, Systems and Equipment Section, FAA, Atlanta ACO Branch, 1701 Columbia Avenue, College Park, GA 30337; phone: 404-474-5580; fax: 404-474-5606; email: Samuel.Belete@faa.gov.

(2) For Boeing service information identified in this AD, contact Boeing Commercial Airplanes, Attention: Contractual & Data Services (C&DS), 2600 Westminster Blvd., MC 110-SK57, Seal Beach, CA 90740-5600; telephone 562-797-1717; internet https://www.myboeingfleet.com. For Kidde Aerospace & Defense service information identified in this AD, contact Kidde Aerospace & Defense, 4200 Airport Drive NW, Building B, Wilson, NC 27896-8630; telephone 319-295-5000; http://www.Kiddetechnologies.com/aviation. You may view this service information at the FAA, Transport Standards Branch, 2200 South 216th St., Des Moines, WA. For information on the availability of this material at the FAA, call 206-231-3195.

Issued on March 23, 2020.
Lance T. Gant,
Director, Compliance & Airworthiness Division, Aircraft Certification Service.

[FR Doc. 2020-06502 Filed 3-27-20; 8:45 am]

BILLING CODE 4910-13-P